DEPARTMENT OF HOUSING AND URBAN DEVELOPMENT

[Docket No. FR-7075-N-01]

60-Day Notice of Proposed Information Collection: Study of Childcare in Public Housing; OMB Control No.: 2528-XXX

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 9, 2023.

ADDRESSES: Interested persons are invited to submit comments regarding this proposal. Written comments and recommendations for the proposed information collection can be sent within 60 days of publication of this notice to OIRA_submission@omb.eop.gov or www.reginfo.gov/public/do/PRAMain. Find this particular information collection by selecting “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000; telephone 202-402-5535 (this is not a toll-free number) or email at Anna.P.Guido@hud.gov for a copy of the proposed forms or other available information.

FOR FURTHER INFORMATION CONTACT: Anna Guido, Reports Management Officer, REE, Department of Housing and Urban Development, 451 7th Street SW, Washington, DC 20410; email Anna Guido at Anna.Guido@hud.gov, telephone 202-402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Study of Childcare in Public Housing Data Collection.

OMB Approval Number: 2528-New.

Type of Request (i.e., new, revision or extension of currently approved collection): New Collection.

Form Number: N/A.

Description of the need for the information and proposed use: The purpose of this proposed information collection is to interview key stakeholders and HUD assisted families to support the Study of Childcare in Public Housing. This is a multi-site study including six Public Housing Authorities (PHAs) in three states.

Individual interviews will be conducted with key stakeholders and PHA residents in each of the six sites.¹ These interviews are key to our understanding of the Early Care and Education (ECE) needs, preferences, and use of families in PHA-owned housing. Furthermore, these interviews will help us better understand the barriers and facilitators to operating co-located PHA and ECE programs.

¹ Interviews with state-level stakeholders will primarily be conducted virtually. Interviews with site-level stakeholders and families will primarily be held in person, depending on public health guidelines at the time of data collection.

Stakeholder interviews: Within each site, a key set of stakeholders will be identified through the landscape scan. Key stakeholders will include those involved in the operations of either a PHA, an ECE program, or a co-located ECE program in PHA housing in a given community. Within each site, we anticipate conducting up to 16 stakeholder interviews with a mix of virtual or in-person interviews, depending on the preferences of the stakeholders and local public health guidelines.² Potential stakeholders may include: PHA directors, PHA resident advisory board members, PHA supportive service staff, Head Start grantee directors, Pre-K directors, child care resource and referral centers, state child care subsidy office directors, and state Head Start Collaboration Office directors.

² We anticipate one to two interviews per stakeholder group.

We anticipate conducting semi-structured interviews with key stakeholders. Interview questions will address, but not be limited to, the following topics: (1) Whether there is a co-located ECE; (2) If there is a co-located ECE, processes for licensure and quality rating assessments (if applicable); (3) Facilitators and challenges with operating co-located ECE (as applicable); (4) How local ECE policies effect the colocation of ECE and PHAs; (5) How PHAs support families in accessing ECE; (6) Proximity of ECE programs to PHA (e.g., whether the program is in a child care desert or location with many options available); and (7) Characteristics of local ECE programs (e.g., cost, capacity, licensure status, ages served, home- or center-based, and hours of operation).

PHA resident interviews: In-depth interviews are critical to understanding sensitive topics that people might be reluctant to discuss in a group. Given our previous experience with qualitative data collection in various housing programs and contexts, we anticipate that individual interviews will allow us to better understand the specific needs and experiences of families. We plan to work closely with resident advisory boards and key stakeholders in each site to identify the best process for recruiting families to participate in the study. Recruitment strategies will be responsive to local contexts and sensitive to families' preferences. We anticipate recruiting families with diverse needs and experiences, including variation in child age, employment status, and childcare arrangements. We will work with the resident advisory board, as applicable, to vet interview questions prior to data collection.

We anticipate conducting semi-structured interviews with residents. Interview questions will address, but not be limited to, the following topics: (1) ECE needs, preferences, and use; (2) What families look for in terms of the quality of care; (3) Facilitators and barriers to accessing ECE (e.g., cost, location, etc.), (4) Interest and use of co-located ECE programs; and (5) Support received from PHAs in accessing ECE.

This Federal Register Notice provides an opportunity to comment on the data collection instruments and associated materials to be administered to the participants in the Study of Childcare in Public Housing.

Hourly Cost per Response: Key stakeholders include: PHA directors, PHA resident advisory board members, PHA supportive service staff, Head Start grantee directors, Pre-K directors, childcare resource and referral centers, state child care subsidy office directors, and state Head Start Collaboration Office directors. Mean Hourly Wage rates are estimated using approximations from the U.S. Bureau of Labor Statistics (BLS): ³

³ BLS table with wages: https://www.bls.gov/oes/current/oes_nat.htm#top.

• Education/Child Care Administrators—$47.73

• Education/Child Care Administrators (Pre School)—$25.87

• Child, Family, School Social Workers—$26.39

• Mean = (47.73 + 25.87 + 26.39)/3 = $33.33

• Loaded Mean (+30%) = $43.33

Respondents (i.e., affected public): Public Housing residents and key stakeholders who may include: PHA directors, PHA resident advisory board members, PHA supportive service staff, Head Start grantee directors, Pre-K directors, child care resource and referral centers, state child care subsidy office directors, and state Head Start Collaboration Office directors. All respondents shall be adults.

Estimated Number of Respondents: 96 key stakeholder respondents (16 per PHA * 6 PHAs) and 108 PHA resident respondents (18 per PHA * 6 PHAs).

Frequency of Response: Once.

Average Hours per Response: Completion the 96 Key Stakeholder Interviews is expected to take on average 50 minutes or 0.83 hours, with the consent form taking an additional 10 minutes or .17 hours per respondent. Completion of the 108 PHA Resident Interviews is expected to take on average 50 minutes or 0.83 hours, with the consent form taking an additional 10 minutes or .17 hours per respondent.

Total Estimated Burden Hours: 204 hours.

Annualized Burden Table
Information collection | Number of respondents | Frequency of response | Responses per annum | Burden hour per response | Annual burden hours | Hourly cost per response | Cost
Adult Head of Household
Key Stakeholders Interviews | 96 | 1 | 1 | 0.83 | 80 | $43.33 | $3,466.40
Key Stakeholders Consent Form | 96 | 1 | 1 | .17 | 16 | 43.33 | 693.28
PHA Residents Interviews | 108 | 1 | 1 | 0.83 | 90 | 10.62 | 955.80
PHA Resident Consent Form | 108 | 1 | 1 | .17 | 18 | 10.62 | 191.16
Total |  |  |  |  | 204 |  | 5,306.64

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Todd M. Richardson,
General Deputy Assistant Secretary for Policy Development and Research.

[FR Doc. 2023-04950 Filed 3-9-23; 8:45 am]

BILLING CODE 4210-67-P